DEPARTMENT OF ENERGY

Federal Energy Regulatory Commission

Combined Notice of Filings #1

Take notice that the Commission received the following electric rate filings:

Docket Numbers: ER19-1575-003; ER10-3050-005; ER14-2871-014; ER16-182-009; ER20-71-001; ER20-72-001; ER17-1785-004; ER20-74-001; ER16-1130-007; ER16-1131-007; ER16-1132-007; ER17-47-006; ER19-1658-002; ER17-1574-004; ER10-3245-011; ER10-3249-011; ER10-3250-011; ER18-2241-002; ER19-426-002; ER19-427-002; ER19-1660-002; ER19-1662-002; ER20-75-001; ER10-2488-019; ER15-621-013; ER20-77-001; ER19-1663-002; ER19-1664-002; ER19-1665-002; ER11-2639-012; ER15-622-013; ER10-3052-004 ; ER15-463-013; ER16-72-009; ER20-78-001; ER20-76-002; ER19-1666-002; ER18-2013-003; ER15-110-013; ER17-48-007; ER19-1667-002; ER19-274-001; ER13-1586-015; ER10-1992-021; ER16-902-006; ER18-47-005; ER20-79-001; ER16-1129-007; ER10-3053-005; ER18-2240-002.

Applicants: Alta Oak Realty, LLC, Cabazon Wind Partners, LLC, Cameron Ridge, LLC, Cameron Ridge II, LLC, Coachella Hills Wind, LLC, Coachella Wind Holdings, LLC, Coachella Wind, LLC, Desert Hot Springs, LLC, DifWind Farms Limited II, DifWind Farms Limited V, DifWind Farms LTD VI, Dutch Wind, LLC,EUI Affiliate LLC, Foote Creek II, LLC, Foote Creek III, LLC, Foote Creek IV, LLC, Garnet Wind, LLC, Luz Solar Partners VIII, Ltd., Luz Solar Partners IX, Ltd., Mojave 3/4/5 LLC, Mojave 16/17/18 LLC, Oasis Alta, LLC, Oasis Power Partners, LLC, Pacific Crest Power, LLC, Painted Hills Wind Holdings, LLC, PHWD Affiliate LLC, Refresh Wind, LLC, Refresh Wind 2, LLC, Ridge Crest Wind Partners, LLC, Ridgetop Energy, LLC, Rock River I, LLC, San Gorgonio Westwinds II, LLC, San Jacinto Wind II, LLC, Tehachapi Plains Wind, LLC, Terra-Gen 251 Wind, LLC, Terra-Gen Dixie Valley, LLC, Terra-Gen Energy Services, LLC, Terra-Gen Mojave Windfarms, LLC, Terra-Gen VG Wind, LLC, TG High Prairie, LLC, TGP Energy Management, LLC, Victory Garden Phase IV, LLC, Voyager Wind I, LLC, Voyager Wind II, LLC, Voyager Wind IV Expansion, LLC, Whitewater Hill Wind Partners, LLC, VPI Enterprises, LLC, Yavi Energy, LLC, DifWind Farms Limited I, San Gorgonio Westwinds II—Windustries, LLC.

Description: Notice of Non-Material Change in Status of Alta Oak Realty, LLC, et al.

Filed Date: 7/27/20.

Accession Number: 20200727-5185.

Comments Due: 5 p.m. ET 8/17/20.

Docket Numbers: ER19-1643-001.

Applicants: Hopewell Power Generation, LLC.

Description: Report Filing: Refund report to be effective N/A.

Filed Date: 7/27/20.

Accession Number: 20200727-5157.

Comments Due: 5 p.m. ET 8/17/20.

Docket Numbers: ER20-529-003.

Applicants: Wilderness Line Holdings, LLC.

Description: Tariff Amendment: Executed Windstar LGIA & TSA to be effective 6/30/2020.

Filed Date: 7/27/20.

Accession Number: 20200727-5131.

Comments Due: 5 p.m. ET 8/17/20.

Docket Numbers: ER20-1921-001.

Applicants: Southwest Power Pool, Inc.

Description: Tariff Amendment: Amended Filing—Revisions to Attachment AF to Clarify Market Mitigation Process to be effective 8/3/2020.

Filed Date: 7/28/20.

Accession Number: 20200728-5055.

Comments Due: 5 p.m. ET 8/18/20.

Docket Numbers: ER20-1939-000.

Applicants: Calpine Northeast Development, LLC.

Description: Amendment to May 29, 2020 Calpine Northeast Development, LLC tariff filing.

Filed Date: 7/27/20.

Accession Number: 20200727-5173.

Comments Due: 5 p.m. ET 8/6/20.

Docket Numbers: ER20-2508-000.

Applicants: PJM Interconnection, L.L.C.

Description: § 205(d) Rate Filing: Original ISA, SA #5699; Queue #AF1-178; Cancel ISA, SA #3039; Queue #W2-075 to be effective 6/30/2020.

Filed Date: 7/27/20.

Accession Number: 20200727-5130.

Comments Due: 5 p.m. ET 8/17/20.

Docket Numbers: ER20-2509-000.

Applicants: PJM Interconnection, L.L.C.

Description: § 205(d) Rate Filing: Original ISA, SA No. 5690; Queue No. AF1-184 to be effective 6/30/2020.

Filed Date: 7/27/20.

Accession Number: 20200727-5140.

Comments Due: 5 p.m. ET 8/17/20.

Docket Numbers: ER20-2510-000.

Applicants: Odom Solar LLC.

Description: Baseline eTariff Filing: MBR Application to be effective 9/25/2020.

Filed Date: 7/27/20.

Accession Number: 20200727-5162.

Comments Due: 5 p.m. ET 8/17/20.

Docket Numbers: ER20-2511-000.

Applicants: ISO New England Inc., New England Power Pool Participants Committee.

Description: § 205(d) Rate Filing: ISO-NE & NEPOOL; Addition of 30 Min. to Day-Ahead Energy Mkt Submission Window to be effective 9/30/2020.

Filed Date: 7/27/20.

Accession Number: 20200727-5163.

Comments Due: 5 p.m. ET 8/17/20.

Docket Numbers: ER20-2512-000.

Applicants: SR Baxley, LLC.

Description: Baseline eTariff Filing: MBR Application to be effective 9/25/2020.

Filed Date: 7/27/20.

Accession Number: 20200727-5164.

Comments Due: 5 p.m. ET 8/17/20.

Docket Numbers: ER20-2513-000.

Applicants: Tri-State Generation and Transmission Association, Inc.

Description: § 205(d) Rate Filing: Amendment to Tri-State Rate Schedule No. 113 to be effective 7/28/2020.

Filed Date: 7/27/20.

Accession Number: 20200727-5165.

Comments Due: 5 p.m. ET 8/17/20.

Docket Numbers: ER20-2514-000.

Applicants: PJM Interconnection, L.L.C.

Description: § 205(d) Rate Filing: Original ISA, SA No. 5686; Queue No. AF1-187 to be effective 6/29/2020.

Filed Date: 7/27/20.

Accession Number: 20200727-5166.

Comments Due: 5 p.m. ET 8/17/20.

Docket Numbers: ER20-2515-000.

Applicants: SR Georgia Portfolio I MT, LLC.

Description: Baseline eTariff Filing: MBR Application to be effective 9/25/2020.

Filed Date: 7/27/20.

Accession Number: 20200727-5167.

Comments Due: 5 p.m. ET 8/17/20.

Docket Numbers: ER20-2516-000.

Applicants: Southwest Power Pool, Inc.

Description: § 205(d) Rate Filing: Tariff Clean-Up Filing Effective 20200701 to be effective 7/1/2020.

Filed Date: 7/28/20.

Accession Number: 20200728-5046.

Comments Due: 5 p.m. ET 8/18/20.

Docket Numbers: ER20-2517-000.

Applicants: Northern Colorado Interconnect, LLC.

Description: Baseline eTariff Filing: NorCol Interconnect, NorCol & NorCol II SFA to be effective 8/28/2020.

Filed Date: 7/28/20.

Accession Number: 20200728-5053.

Comments Due: 5 p.m. ET 8/18/20.

Docket Numbers: ER20-2518-000.

Applicants: New England Power Pool Participants Committee, ISO New England Inc.

Description: § 205(d) Rate Filing: ISO-NE & NEPOOL; Revisions to ISO Information Policy Re: Defaulting Participants to be effective 10/1/2020.

Filed Date: 7/28/20.

Accession Number: 20200728-5065.

Comments Due: 5 p.m. ET 8/18/20.

Docket Numbers: ER20-2519-000.

Applicants: East Line Solar, LLC.

Description: Baseline eTariff Filing: East Line Solar, LLC MBR Tariff to be effective 7/29/2020.

Filed Date: 7/28/20.

Accession Number: 20200728-5076.

Comments Due: 5 p.m. ET 8/18/20.

Docket Numbers: ER20-2520-000.

Applicants: PJM Interconnection, L.L.C.

Description: § 205(d) Rate Filing: Original ISA, SA No. 5692; Queue No. AF1-198 to be effective 6/30/2020.

Filed Date: 7/28/20.

Accession Number: 20200728-5084.

Comments Due: 5 p.m. ET 8/18/20.

Docket Numbers: ER20-2521-000.

Applicants: PJM Interconnection, L.L.C.

Description: § 205(d) Rate Filing: Original ISA, SA No. 5689; Queue No. AF1-193 to be effective 6/29/2020.

Filed Date: 7/28/20.

Accession Number: 20200728-5091.

Comments Due: 5 p.m. ET 8/18/20.

Docket Numbers: ER20-2522-000.

Applicants: Duke Energy Florida, LLC.

Description: § 205(d) Rate Filing: DEF—Bartow Amended and Restated NITSA SA-145 to be effective 10/1/2020.

Filed Date: 7/28/20.

Accession Number: 20200728-5092.

Comments Due: 5 p.m. ET 8/18/20.

Docket Numbers: ER20-2523-000.

Applicants: PJM Interconnection, L.L.C.

Description: § 205(d) Rate Filing: Original WMPA SA No. 5722; Queue No AF1-210 to be effective 6/30/2020.

Filed Date: 7/28/20.

Accession Number: 20200728-5093.

Comments Due: 5 p.m. ET 8/18/20.

Docket Numbers: ER20-2524-000.

Applicants: Weaver Wind, LLC.

Description: Baseline eTariff Filing: Market-Based Rate Application to be effective 9/27/2020.

Filed Date: 7/28/20.

Accession Number: 20200728-5095.

Comments Due: 5 p.m. ET 8/18/20.

Docket Numbers: ER20-2525-000.

Applicants: Westlands Transmission, LLC.

Description: Baseline eTariff Filing: Rate Schedule FERC No. 1, Transmission Service Agreement to be effective 9/28/2020.

Filed Date: 7/28/20.

Accession Number: 20200728-5096.

Comments Due: 5 p.m. ET 8/18/20.

Docket Numbers: ER20-2526-000.

Applicants: Weaver Wind Maine Master Tenant, LLC.

Description: Baseline eTariff Filing: Market-Based Rate Application to be effective 9/27/2020.

Filed Date: 7/28/20.

Accession Number: 20200728-5099.

Comments Due: 5 p.m. ET 8/18/20.

Take notice that the Commission received the following foreign utility company status filings:

Docket Numbers: FC20-12-000.

Applicants: I Squared Capital.

Description: Self-Certification of FC of I Squared Capital.

Filed Date: 7/27/20.

Accession Number: 20200727-5139.

Comments Due: 5 p.m. ET 8/17/20.

Docket Numbers: FC20-13-000.

Applicants: I Squared Capital.

Description: Self-Certification of FC of I Squared Capital.

Filed Date: 7/27/20.

Accession Number: 20200727-5144.

Comments Due: 5 p.m. ET 8/17/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: July 28, 2020.
Nathaniel J. Davis, Sr.,
Deputy Secretary.

[FR Doc. 2020-16809 Filed 7-31-20; 8:45 am]

BILLING CODE 6717-01-P